DEPARTMENT OF TRANSPORTATION

Federal Highway Administration

Environmental Impact Statement; Pottawattamie County, IA, Douglas County, NE

AGENCY: Federal Highway Administration (FHWA), DOT.

ACTION: Notice of intent.

SUMMARY: The FHWA is issuing this notice to advise the public that an environmental impact statement will be prepared for improving the freeway system for Interstate-80 (I-80), I-29, and I-480 in the City of Council Bluffs, Pottawattamie County, Iowa, and the City of Omaha, Douglas County, Nebraska.

FOR FURTHER INFORMATION CONTACT: Rebecca Hiatt, Operations Engineer, FHWA, 105 6th Street, Ames, IA 50010-6337, (515) 233-7321. James P. Rost, Director, Office of Location and Environment, Iowa Department of Transportation, 800 Lincoln Way, Ames, IA 50010, (515) 239-1798.

SUPPLEMENTARY INFORMATION:

Electronic Access

An electronic copy of this document may be downloaded using a modem and suitable communications software from the Government Printing Office's Electronic Bulletin Board Service at (202) 512-1661. Internet users may reach the Federal Register's home page at: http://www.nara.gov/fedreg and the Government Printing Office's database at: http://www.access.gpo.gov/nara.

Background

The FHWA, in cooperation with the Iowa Department of Transportation, will prepare an environmental impact statement (EIS) for the proposed Council Bluffs Interstate System Improvement Project including improvements to I-80, I-29, and I-480. The system deficiencies noted in an earlier needs study (conducted by the Metropolitan Planning Organization and the City of Council Bluffs in April 1999) included deteriorated roadways and bridges, reduced travel efficiency, substandard roadway geometry, and safety issues. The proposed system improvements include approximately 18 mainline-miles of interstate, and 16 interchanges (3 system, 13 service). The project area includes Interstate 80 from near the 24th Street interchange in the City of Omaha, Nebraska, east to U.S. Hwy 6 (Kanesville Blvd) just northeast of the City of Council Bluffs, Iowa. The project also includes: Interstate 29, from just south of Iowa Hwy 92 and U.S. Hwy 275 south of Council Bluffs, and north to Iowa Hwy 192 (16th Street) just north of Council Bluffs; Interstate 480 from the Missouri River Bridge (on the Nebraska side) to Interstate 29 at the Broadway interchange in Council Bluffs; studies of the Missouri River crossings; and an underpass of the Union Pacific mainline.

Due to the size of the system and the multi-year/multi-project approach, a tiered EIS process will be conducted. A Tier 1 EIS will be prepared to determine the preferred set of long-range improvements for the I-80, I-29, and I-480 freeway system. The EIS will consider a broad range of alternatives including no action, reconstruction of the existing alignment, and improvements to transportation system management, transportation demand management, transit, and cross-town corridors. Following the conclusion of the Tier 1 EIS, preliminary engineering, in-depth environmental studies, and Tier 2 environmental documents (EIS, environmental assessment (EA), or categorical exclusion (CE)) will be completed for individual projects as appropriate.

Letters describing the proposed action and soliciting comments have been sent to appropriate federal, state, and local agencies, and to private organizations and citizens who are known to be interested in this proposed project.

A scoping meeting for identifying significant issues to be addressed in the environmental impact statement will be held on September 12, 2002 from 4 to 7 p.m. at the Best Western Crossroads of the Bluffs at 2216 27th Avenue (I-80 and 24th Street), Council Bluffs, Iowa.

In addition to the scoping meeting, a series of public meetings and a public hearing on the draft EIS will be held in the City of Council Bluffs, Iowa, during 2002, 2003 and 2004. Public notice will be given of the time and place of the public meetings and public hearing. The draft EIS will be available for public and agency review and comment prior to the public hearing.

To ensure that the full range of issues related to this proposed action are addressed and all significant issues identified, comments and suggestions are invited from all interested parties. Comments or questions concerning this proposed action and the EIS should be directed to the Iowa Department of Transportation or FHWA at the address provided under the caption FOR FURTHER INFORMATION CONTACT.

(Catalog of Federal Domestic Assistance Program Number 20.205, Highway Planning and Construction. The regulations implementing Executive Order 12372 regarding intergovernmental consultation of Federal programs and activities apply to this program.)

(Authority: 23 U.S.C. 315; 49 CFR 1.48)

Bobby W. Blackmon,
Division Administrator.

[FR Doc. 02-21214 Filed 8-20-02; 8:45 am]

BILLING CODE 4910-22-U